DEPARTMENT OF THE INTERIOR

National Park Service

Minor Boundary Revision of Boston National Historical Park

AGENCY: National Park Service, Interior.

ACTION: Notification of Boundary Revision.

SUMMARY: Notice is hereby given that, pursuant to 16 U.S.C. 460l-9(c)(1), the boundary of Boston National Historical Park is modified to include 0.50 acre of adjacent land identified as Tract 101-13. This tract is unimproved, submerged land owned by the Commonwealth of Massachusetts. The Commonwealth ceded it to the United States of America without cost by enactment of Chapter 37 of the Laws of 2009, on July 23, 2009, subject to the satisfaction of certain conditions in the act. Tract 101-13 is depicted as the “Proposed Area” on Map Number 457/80,800 prepared by the National Park Service in March 2008.

FOR FURTHER INFORMATION CONTACT: Superintendent, Boston National Historical Park, Charlestown Navy Yard, Boston, Massachusetts 02129. The map depicting this modification is available for inspection at National Park Service, Northeast Region, Land Resources Division, New England Office, 115 John Street, Fifth Floor, Lowell, Massachusetts 01852, and at National Park Service, Department of the Interior, Washington, DC 20240.

DATES: The effective date of this boundary revision is June 15, 2011.

SUPPLEMENTARY INFORMATION: 16 U.S.C. 460l-9(c)(1) provides that, after notifying the House Committee on Natural Resources and the Senate Committee on Energy and Resources, the Secretary of the Interior is authorized to make this boundary revision. The Committees have been so notified. This boundary revision will contribute to, and is necessary for, the proper management of a docking facility in the Charlestown Navy Yard.

Dated: June 1, 2011.
Dennis R. Reidenbach,
Regional Director, Northeast Region.

[FR Doc. 2011-14761 Filed 6-14-11; 8:45 am]

BILLING CODE 4310-3B-P